NUCLEAR REGULATORY COMMISSION

[NRC-2015-0142]

Biweekly Notice: Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from May 13, 2015 to May 27, 2015. The last biweekly notice was published on May 26, 2015.

DATES: Comments must be filed by July 9, 2015. A request for a hearing must be filed by August 10, 2015.

ADDRESSES: You may submit comments by any of the following methods (unless this document describes a different method for submitting comments on a specific subject):

• Federal Rulemaking Web site: Go to http://www.regulations.gov and search for Docket ID NRC-2015-0142. Address questions about NRC dockets to Carol Gallagher; telephone: 301-415-3463; email: Carol.Gallagher@nrc.gov

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Shirley Rohrer, Office of Nuclear Reactor Regulation, U.S. Nuclear Regulatory Commission, Washington, DC 20555-0001; telephone: 301-415-5411, email: Shirley.Rohrer@nrc.gov.

SUPPLEMENTARY INFORMATION:

I. Obtaining Information and Submitting Comments

A. Obtaining Information

Please refer to Docket ID NRC-2015-0142 when contacting the NRC about the availability of information for this action. You may obtain publicly-available information related to this action by any of the following methods:

• Federal rulemaking Web site: Go to http://www.regulations.gov and search for Docket ID NRC-2015-0142.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Comments

Please include Docket ID NRC-2015-0142, facility name, unit number(s), application date, and subject in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least ten 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, in some instances, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on accessing information related to this document, see the “Obtaining Information and Submitting Comments” section of this document.

Dominion Nuclear Connecticut, Inc., (DNC), Docket No. 50-336, Millstone Power Station, Unit 2 (MPS2), New London County, Connecticut

Date of amendment request: October 31, 2014. A publicly-available version is in ADAMS under Accession No. ML14310A187.

Description of amendment request: The amendment would revise the MPS2 Final Safety Analysis Report (FSAR) to allow the use of the encoded ultrasonic examination technique in lieu of the FSAR committed additional radiography examination for certain piping welds fabricated to ANSI [American National Standards Institute] B31.1.0. The amendment would also revise the MPS2 Facility Operating License No. DPR-65.

Basis for proposed no significant hazards consideration determination: As required by 10 CFR 50.91(a), the licensee has provided its analysis of the issue of no significant hazards consideration, which is presented below:

Criterion 1:

Does the proposed amendment involve a significant increase in the probability or consequences of an accident previously evaluated?

Response: No.

Previously evaluated accident consequences are not impacted by the proposed amendment because credited mitigating equipment continues to perform its design function. The proposed amendment does not significantly impact the probability of an accident previously evaluated because those Systems, Structures and Components (SSCs) that can initiate an accident are not significantly impacted.

Based on the above, DNC concludes that the proposed amendment to the MPS2 FSAR to allow the use of UT [ultrasonic] in lieu of RT [radiography] examination for certain piping welds fabricated to ANSI B31.1.0, does not involve a significant increase in the probability or consequences of an accident or transient previously evaluated in the safety analysis report.

Criterion 2:

Does the proposed amendment create the possibility for a new or different kind of accident from any accident previously evaluated?

Response: No.

The proposed amendment does not create a new or different kind of accident from any accident previously evaluated because previously credited SSCs are not significantly impacted. The proposed amendment does not involve a physical alteration of the plant and no new or different types of equipment will be installed. There is no impact upon the existing failure modes and effects analysis; and conformance to the single failure criterion is maintained.

Based on the above, DNC concludes that the proposed amendment to the MPS2 FSAR to allow the use of UT in lieu of RT examination for certain piping welds fabricated to ANSI B31.1.0, does not create the possibility of a new or different kind of accident or transient from any previously evaluated.

Criterion 3:

Does the proposed amendment involve a significant reduction in the margin of safety?

Response: No.

The proposed amendment to the MPS2 FSAR will not cause an accident to occur and will not result in any change in the operation of the associated accident mitigation equipment. The proposed amendment does not involve a significant reduction in margin of safety because plant response to any transient or analyzed accident event is unchanged.

Based on the above, DNC concludes the proposed amendment to the MPS2 FSAR to allow the use of UT in lieu of RT examination for certain piping welds fabricated to ANSI B31.1.0, does not involve a significant reduction in the margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar Street, RS-2, Richmond, VA 23219.

Acting NRC Branch Chief: Michael I. Dudek.

Duke Energy Carolinas, LLC, Docket Nos. 50-369 and 50-370, McGuire Nuclear Station, Units 1 and 2, Mecklenburg County, North Carolina

Date of amendment request: March 23, 2015. A publicly-available version is in ADAMS under Accession No. ML15099A393.

Description of amendment request: The amendments would modify the definition of RATED THERMAL POWER and delete a footnote that allowed for stagered implementation of the previously approved Measurement Uncertainty Recapture Power Uprate.

Basis for proposed no significant hazards consideration determination: As required by 10 CFR 50.91(a), the licensee has provided its analysis of the issue of no significant hazards consideration, which is presented below:

Criterion 1:

Does the proposed amendment involve a significant increase in the probability or consequences of an accident previously evaluated?

Response: No.

This LAR [license amendment request] proposes administrative non-technical changes only. These proposed changes do not adversely affect accident initiators or precursors nor alter the design assumptions, conditions, or configurations of the facility. The proposed changes do not alter or prevent the ability of structures, systems[,] and components (SSCs) to perform their intended function to mitigate the consequences of an initiating event witin the assumed acceptance limits.

Given the above discussion, it is concluded the proposed amendment does not significantly increase the probability or consequences of an accident previously evaluated.

Criterion 2:

Does the proposed amendment create the possibility of a new or different kind of accident from any accident previously evaluated?

Response: No.

The LAR proposes administrative non-technical changes only. The proposed changes will not alter the design requirements of any SSC or its function during accident conditions. No new or different accidents result from the changes proposed. The changes do not involve a physical alteration of the plant or any changes in methods governing normal plant operation. The changes do not alter assumptions made in the safety analysis.

Given the above discussion, it is concluded the proposed amendment does not create the possibility of a new or different kind of accident from any accident previously evaluated.

Criterion 3:

Does the proposed amendment involve a significant reduction in the margin of safety?

Response: No.

This LAR proposes administrative non-technical changes only. The proposed changes do not alter the manner in which safety limits, limiting safety system settings or limiting conditions for operation are determined. The safety analysis acceptance criteria are not affected by these changes. The proposed changes will not result in plant operation in a configuration outside the design basis. The proposed changes do not adversely affect systems that respond to safely shutdown the plant and to maintain the plant in a safe shutdown condition.

Given the above discussion, it is concluded [that] the proposed amendment does not involve a significant reduction in the margin of safety.

The NRC staff has reviewed the licensee's analysis and, based on this review, it appears that the three standards of 10 CFR 50.92(c) are satisfied. Therefore, the NRC staff proposes to determine that the amendment request involves no significant hazards consideration.

Attorney for licensee: Lara S. Nichols, Associate General Counsel, Duke Energy Corporation, 526 South Church Street—EC07H, Charlotte, NC 28202.

NRC Branch Chief: Robert J. Pascarelli.

NextEra Energy Point Beach, LLC, Docket Nos. 50-266 and 50-301, Point Beach Nuclear Plant, Units 1 and 2, Town of Two Creeks, Manitowac County, Wisconsin

Date of amendment request: March 27, 2015. A publicly-available version is in ADAMS under Accession No. ML15086A378.

Description of amendment request: The proposed amendment would modify the technical specifications (TS) requirements regarding steam generator tube inspections and reporting as described in TS Task Force (TSTF) traveler TSTF-510, Revision 2, “Revision to Steam Generator Program Inspection Frequencies and Tube Sample Selection.”

Basis for proposed no significant hazards consideration determination: As required by 10 CFR 50.91(a), the licensee has provided its analysis of the issue of no significant hazards consideration, which is provided below:

1. Does the proposed change involve a significant increase in the probability or consequences of any accident previously evaluated?

Response: No.

The proposed change revises the Steam Generator (SG) Program to modify the frequency of verification of SG tube integrity and SG tube sample selection. A steam generator tube rupture (SGTR) event is one of the design basis accidents that are analyzed as part of a plant's licensing basis. The proposed SG tube inspection frequency and sample selection criteria will continue to ensure that the SG tubes are inspected such that the probability of a SGTR is not increased. The consequences of a SGTR are bounded by the conservative assumptions in the design basis accident analysis. The proposed change will not cause the consequences of a SGTR to exceed those assumptions.

Therefore, it is concluded that this change does not involve a significant increase in the probability or consequences of an accident previously evaluated.

2. Does the proposed change create the possibility of a new or different kind of accident from any previously evaluated?

Response: No.

The proposed changes to the Steam Generator Program will not introduce any adverse changes to the plant design basis or postulated accidents resulting from potential tube degradation. The proposed change does not affect the design of the SGs or their method of operation. In addition, the proposed change does not impact any other plant system or component.

Therefore, it is concluded that this change does not create the possibility of a new or different kind of accident from any accident previously evaluated.

3. Does the proposed change involve a significant reduction in the margin of safety?

Response: No.

The SG tubes in pressurized water reactors are an integral part of the reactor coolant pressure boundary and, as such, are relied upon to maintain the primary system's pressure and inventory. As part of the reactor coolant pressure boundary, the SG tubes are unique in that they are also relied upon as a heat transfer surface between the primary and secondary systems such that residual heat can be removed from the primary system. In addition, the SG tubes also isolate the radioactive fission products in the primary coolant from the secondary system. In summary, the safety function of a SG is maintained by ensuring the integrity of its tubes.

Steam generator tube integrity is a function of the design, environment, and the physical condition of the tube. The proposed change does not affect tube design or operating environment. The proposed change will continue to require monitoring of the physical condition of the SG tubes such that there will not be a reduction in the margin of safety compared to the current requirements.

Therefore, it is concluded that the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: William Blair, Managing Attorney—Nuclear, Florida Power & Light Company, P.O. Box 14000, 700 Universe Boulevard, Juno Beach, FL 33408-0420.

NRC Branch Chief: David L. Pelton.

Pacific Gas and Electric Company, Docket Nos. 50-275 and 50-323, Diablo Canyon Nuclear Power Plant, Units 1 and 2, San Luis Obispo County, California

Date of amendment request: April 16, 2015. A publicly-available version is in ADAMS under Accession No. ML15107A333.

Description of amendment request: The amendments propose to revise the Best Estimate Analyzer for the Core Operations-Nuclear (BEACON) power distribution monitoring system methodology described in the Updated Final Safety Analysis Report (UFSAR) Section 4.3.2.2, “Power Distribution,” to the method described in the Westinghouse Electric Company LLC proprietary topical report (TR) WCAP-12472-P-A, Addendum 4, “BEACON Core Monitoring and Operation Support System.” These amendments also propose to revise Technical Specification (TS) 5.6.5, “CORE OPERATING LIMITS REPORT (COLR),” Section b to replace Westinghouse proprietary TR WCAP-11596-P-A, “Qualification of the PHOENIX-P/ANC Nuclear Design System for Pressurized Water Reactor Cores,” with NRC-approved proprietary TR WCAP-16045-P-A, “Qualification of the Two-Dimensional Transport Code PARAGON,” and NRC-approved proprietary TR WCAP-16045-P-A, Addendum 1-A, “Qualification of the NEXUS Nuclear Data Methodology.”

Basis for proposed no significant hazards consideration determination: As required by 10 CFR 50.91(a), the licensee has provided its analysis of the issue of no significant hazards consideration, which is presented below:

1. Does the proposed change involve a significant increase in the probability or consequences of an accident previously evaluated?

Response: No.

The proposed change would revise the Updated Final Safety Analysis Report (UFSAR) to allow the use of the BEACON code methodology contained in the NRC-approved WCAP-12472-P-A, Addendum 4, Revision 0, instead of the BEACON methodology contained in NRC-approved WCAP-12472-P-A, Addendum 1-A. In addition, the proposed change would revise Technical Specification (TS) 5.6.5, “CORE OPERATING LIMITS REPORT (COLR),” Section b to replace WCAP-11596-P-A, “Qualification of the Phoenix-P/ANC Nuclear Design System for Pressurized Water Reactor Cores,” with NRC-approved WCAP-16045-P-A, “Qualification of the Two-Dimensional Transport Code PARAGON,” and NRC-approved WCAP-16045-P-A, Addendum 1-A, “Qualification of the NEXUS Nuclear Data Methodology,” in the list of NRC-approved analytical limits used to determine core operating limits[,] [s]pecifically the limit for refueling boron concentration (i.e., the shutdown margin) required by TS 3.9.1, “Boron Concentration.”

The changes to the BEACON system and TS 5.6.5 core operating limits methodologies, which this license amendment proposes, are improvements over the current methodologies in use at the Diablo Canyon Power Plant (DCPP). The NRC staff reviewed and approved these methodologies and concluded that these analytical methods are acceptable as a replacement for the current analytical methods. Thus the BEACON system operation to perform power distribution calculations and the core operating limits determined using the proposed analytical methods will continue to assure that the plant operates in a safe manner and, thus, the proposed changes do not involve an increase in the probability of an accident.

The BEACON system power distribution calculations and the core operating limits determined by use of the proposed new methodologies will not increase the reactor power level or the core fission product inventory, and will not change any transport assumptions or the shutdown margin requirements of the TS. In addition, the proposed changes will not alter any accident analyses assumptions discussed in the UFSAR. As such, the DCPP will continue to operate within the power distribution limits and shutdown margins required by the plant TS and within the assumptions of the safety analyses described in the UFSAR. As such, the proposed changes do not involve a significant increase in the consequences of an accident.

Therefore, the proposed change does not involve a significant increase in the probability or consequences of an accident previously evaluated.

2. Does the proposed change create the possibility of a new or different accident from any accident previously evaluated?

Response: No.

The proposed change involves the use of new and NRC-approved methodologies used by the BEACON System to perform core power distribution calculations and in TS 5.6.5, “CORE OPERATING LIMITS REPORT (COLR),” to determine core operating limits (i.e., refueling boron concentration or shutdown margin requirement).

The proposed change provides revised analytical methods for the BEACON system and determining core operating limit for refueling boron concentration, and does not change any system functions or maintenance activities. The change does not involve physical alteration of the plant, that is, no new or different type of equipment will be installed. The change does not alter assumptions made in the safety analyses and continues to assure the plant is operated within safe limits. This change does not create new failure modes or mechanisms that are not identifiable during testing, and no new accident precursors are generated.

The BEACON system is not used to control the performance of any plant equipment. The BEACON system core power distribution calculations and core operating limits developed using the new methodologies will be determined using NRC-approved methodologies, and will remain consistent with all applicable plant safety analysis limits addressed in the DCPP UFSAR and the shutdown margin requirements of the TS. As such, use of the new BEACON and COLR methodologies will not cause a new or different accident.

Therefore, the proposed change does not create the possibility of a new or different accident from any accident previously evaluated.

3. Does the proposed change involve a significant reduction in a margin of safety?

Response: No.

The margin of safety is established through equipment design, operating parameters, and the setpoints at which automatic actions are initiated. The proposed changes do not physically alter safety-related systems, nor does it affect the way in which safety related systems perform their functions. The setpoints at which protective actions are initiated are not altered by the proposed changes. Therefore, sufficient equipment remains available to actuate upon demand for the purpose of mitigating an analyzed event. The proposed methodology changes are an improvement that will allow more accurate modeling of core performance and determination of the required refueling boron concentration. The NRC has reviewed and approved these methodologies for their intended use in lieu of the current methodologies; thus, the margin of safety is not reduced due to this change.

Therefore, the proposed change does not involve a significant reduction in a margin of safety.

The NRC staff has reviewed the licensee's analysis and, based on this review, it appears that the three standards of 10 CFR 50.92(c) are satisfied. Therefore, the NRC staff proposes to determine that the amendment requests involve no significant hazards consideration.

Attorney for licensee: Jennifer Post, Esq., Pacific Gas and Electric Company, P.O. Box 7442, San Francisco, California 94120.

NRC Branch Chief: Michael T. Markley.

Southern Nuclear Operating Company, Inc., Docket Nos. 52-025 and 52-026, Vogtle Electric Generating Plant (VEGP) Units 3 and 4, Burke County, Georgia

Date of amendment request: May 26, 2015. A publically-available version is in ADAMS under Accession No. ML15146A444.

Description of amendment request: The proposed change would amend Combined License Nos. NPF-91 and NPF-92 for the VEGP Units 3 and 4. The requested amendment proposes to depart from Tier 2* and associated Tier 2 information in the VEGP Units 3 and 4 Updated Final Safety Analysis Report (UFSAR) (which includes the plant specific Design Control Document Tier 2 information) to revise the application of American Institute for Steel Construction (AISC) N690-1994, Specification for the Design, Fabrication and Erection of Steel Safety Related Structures for Nuclear Facilities, to allow use of American Welding Society (AWS) D1.1-2000, Structural Welding Code-Steel, in lieu of the AWS D1.1-1992 edition identified in AISC N690-1994.

Basis for proposed no significant hazards consideration determination: As required by 10 CFR 50.91(a), the licensee has provided its analysis of the issue of no significant hazards consideration, which is presented below:

1. Does the proposed amendment involve a significant increase in the probability or consequences of an accident previously evaluated?

Response: No.

The design functions of the nuclear island structures are to provide support, protection, and separation for the seismic Category I mechanical and electrical equipment located in the nuclear island. The nuclear island structures are structurally designed to meet seismic Category I requirements as defined in Regulatory Guide 1.29. The design functions of the seismic Category II portions of the annex building and turbine building are to provide integrity for non-seismic items located in the proximity of safety-related items, the failure of which during a safe shutdown earthquake could result in loss of function of safety-related items.

The use of AWS D1.1-2000 provides criteria for the design, qualification, fabrication, and inspection of welds for nuclear island structures and seismic Category II portions of the annex building and turbine building. These structures continue to meet the applicable portions of ACI [American Concrete Institute] 349, the remaining applicable portions of AISC N690 not related to requirements for welding, including the supplemental requirements described in UFSAR Subsections 3.8.4.4.1 and 3.8.4.5, and the supplemental requirements identified in the UFSAR Subsection 3.8.3 for structural modules. The use of AWS D1.1-2000 does not have an adverse impact on the response of the nuclear island structures, or seismic Category II portions of the annex building and turbine building to safe shutdown earthquake ground motions or loads due to anticipated transients or postulated accident conditions. The change does not impact the support, design, or operation of mechanical and fluid systems. There is no change to plant systems or the response of systems to postulated accident conditions. There is no change to the predicted radioactive releases due to normal operation or postulated accident conditions. The plant response to previously evaluated accidents or external events is not adversely affected, nor does the change described create any new accident precursors.

Therefore, the proposed amendment does not involve a significant increase in the probability or consequences of an accident previously evaluated.

2. Does the proposed amendment create the possibility of a new or different kind of accident from any accident previously evaluated?

Response: No.

The proposed change includes the use of AWS D1.1-2000 to provide criteria for the design, qualification, fabrication, and inspection of welds for nuclear island structures and the seismic Category II portions of the annex building and turbine building. The proposed change provides a consistent set of requirements for welding of structures required to be designed to the requirements of ACI 349 and AISC N690. The change to the details does not change the design function, support, design, or operation of mechanical and fluid systems. The change to the weld details does not result in a new failure mechanism for the pertinent structures or new accident precursors. As a result, the design function of the structures is not adversely affected by the proposed change.

Therefore, the proposed amendment does not create the possibility of a new or different kind of accident from any accident previously evaluated.

3. Does the proposed amendment involve a significant reduction in a margin of safety?

Response: No.

The AWS D1.1-2000 code is a consensus standard written, revised, and approved by industry experts experienced in welding and weld design. The proposed change adds AWS D1.1-2000 to the list of applicable codes and standards in the UFSAR. The 2000 edition includes criteria that consider directionality in the weld which allows for an increase factor on structural fillet weld strength relative to the angle of load direction. These changes are supported by tests that provide the justification for criteria that consider the directionality. The testing and analysis is reported in an AISC Journal Article, “Proposed Working Stresses for Fillet Welds in Building Construction,” by T. R. Higgins and FR Preece. These changes can be similarly applied to welds in the AP1000 to continue to provide the necessary safety margin. Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Branch Chief: Lawrence J. Burkhart.

Tennessee Valley Authority, Docket No. 50-259, Browns Ferry Nuclear Plant, Unit 1, Limestone County, Alabama

Date of amendment request: March 9, 2015. A publicly-available version is in ADAMS under Accession No. ML15111A396.

Description of amendment request: The amendment would revise the Technical Specifications (TS) Section 3.1.4, “Control Rod Scram Times,” based on industry Technical Specifications Task Force (TSTF) Change Traveler TSTF-460-A, Revision 0, that has been approved (August 23, 2004; 69 FR 51864) generically for the boiling water reactor (BWR) Standard Technical Specifications, NUREG-1433 (BWR/4). The required frequency of Surveillance Requirement 3.1.4.2 regarding control rod scram time testing will be changed from “120 days cumulative operation in MODE 1” to “200 days cumulative operation in MODE 1.” The 200-day frequency is based on operating experience that has shown control rod scram times do not significantly change over an operating cycle.

Basis for proposed no significant hazards consideration determination: As required by 10 CFR 50.91(a), the licensee has provided its analysis of the issue of no significant hazards consideration (NSHC) by adopting the NSHC that the NRC published on August 23, 2004 (69 FR 51854), which is presented below:

1. Does the change involve a significant increase in the probability or consequences of an accident previously evaluated?

Response: No.

The proposed change extends the frequency for testing control rod scram time testing from every 120 days of cumulative Mode 1 operation to 200 days of cumulative Mode 1 operation. The frequency of surveillance testing is not an initiator of any accident previously evaluated. The frequency of surveillance testing does not affect the ability to mitigate any accident previously evaluated, as the tested component is still required to be operable.

Therefore, the proposed change does not involve a significant increase in the probability or consequences of an accident previously evaluated.

2. Does the change create the possibility of a new or different kind of accident from any accident previously evaluated?

Response: No.

The proposed change extends the frequency for testing control rod scram time testing from every 120 days of cumulative Mode 1 operation to 200 days of cumulative Mode 1 operation. The proposed change does not result in any new or different modes of plant operation.

Therefore, the proposed change does not create the possibility of a new or different kind of accident from any previously evaluated.

3. Does the proposed change involve a significant reduction in a margin of safety?

Response: No.

The proposed change extends the frequency for testing control rod scram time testing from every 120 days of cumulative Mode 1 operation to 200 days of cumulative Mode 1 operation. The proposed change continues to test the control rod scram time to ensure the assumptions in the safety analysis are protected.

Therefore, the proposed change does not involve a significant reduction in a margin of safety.

The NRC staff has reviewed the licensee's analysis and, based on its own analysis, determines that the three standards of 10 CFR 50.92(c) are satisfied. Therefore, the NRC staff proposes to determine that the amendment request involves no significant hazards consideration.

Attorney for licensee: General Counsel, Tennessee Valley Authority, 400 West Summit Hill Drive, 6A West Tower, Knoxville, TN 37902.

NRC Branch Chief: Shana R. Helton.

Union Electric Company, Docket No. 50-483, Callaway Plant, Unit 1, Callaway County, Missouri

Date of amendment request: March 12, 2015. A publicly-available version is in ADAMS under Accession No. ML15071A403.

Description of amendment request: The proposed amendment would modify Technical Specification (TS) requirements in order to address NRC Generic Letter 2008-01, “Managing Gas Accumulation in Emergency Core Cooling, Decay Heat Removal, and Containment Spray Systems,” dated January 11, 2008 (ADAMS Accession No. ML072910759), as described in TS Task Force (TSTF) traveler TSTF-523-A, Revision 2, “Generic Letter 2008-01, Managing Gas Accumulation” (ADAMS Accession No. ML13053A075).

Basis for proposed no significant hazards consideration determination: As required by 10 CFR 50.91(a), the licensee has provided its analysis of the issue of no significant hazards consideration, which is presented below:

1. Does the proposed change involve a significant increase in the probability or consequences of an accident previously evaluated?

Response: No.

The proposed change revises or adds Surveillance Requirements (SRs) that require verification that the Emergency Core Cooling System (ECCS), the Residual Heat Removal (RHR) System, and the Containment Spray (CS) System, are not rendered inoperable due to accumulated gas and to provide allowances that permit performance of the verification. Gas accumulation in the subject systems is not an initiator of any accident previously evaluated. As a result, the probability of any accident previously evaluated is not significantly increased. The proposed SRs ensure that the subject systems continue to be capable to perform their assumed safety function and are not rendered inoperable due to gas accumulation. Thus, the consequences of any accident previously evaluated are not significantly increased.

Based on the above, the proposed change does not involve a significant increase in the probability or consequences of an accident previously evaluated.

2. Does the proposed change create the possibility of a new or different kind of accident from any accident previously evaluated?

Response: No.

The proposed change revises or adds SRs that require verification that the ECCS, the RHR System, and the CS System are not rendered inoperable due to accumulated gas and to provide allowances that permit performance of the revised verification. The proposed change does not involve a physical alteration of the plant (i.e., no new or different type of equipment will be installed) or a change in the methods governing normal plant operation. In addition, the proposed change does not impose any new or different requirements that could initiate an accident. The proposed change does not alter assumptions made in the safety analysis and is consistent with the safety analysis assumptions.

Therefore, the proposed change does not create the possibility of a new or different kind of accident from any accident previously evaluated.

3. Does the proposed change involve a significant reduction in a margin of safety?

Response: No.

The proposed change revises or adds SRs that require verification that the ECCS, the RHR System, and the CS System are not rendered inoperable due to accumulated gas and to provide allowances which permit performance of the revised verification. The proposed change adds new requirements to manage gas accumulation in order to ensure the subject systems are capable of performing their assumed safety functions. The proposed SRs are more comprehensive than the current SRs and will ensure that the assumptions of the safety analysis are protected. The proposed change does not adversely affect any current plant safety margins or the reliability of the equipment assumed in the safety analysis. Therefore, there are no changes being made to any safety analysis assumptions, safety limits, or limiting safety system settings that would adversely affect plant safety as a result of the proposed change.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: John O'Neill, Esq., Pillsbury Winthrop Shaw Pittman LLP, 2300 N Street NW., Washington, DC 20037.

NRC Branch Chief: Michael T. Markley.

Union Electric Company, Docket No. 50-483, Callaway Plant, Unit 1, Callaway County, Missouri

Date of amendment request: March 9, 2015, as supplemented by letter dated April 8, 2015. Publicly-available versions are in ADAMS under Accession Nos. ML15068A422 and ML15098A575.

Description of amendment request: The proposed amendment would modify Technical Specification (TS) requirements regarding steam generator tube inspections and reporting as described in TS Task Force (TSTF) traveler TSTF-510, Revision 2, “Revision to Steam Generator Program Inspection Frequencies and Tube Sample Selection” (ADAMS Accession No. ML110610350), with some minor administrative differences.

Basis for proposed no significant hazards consideration determination: As required by 10 CFR 50.91(a), the licensee has provided its analysis of the issue of no significant hazards consideration, which is presented below:

1. Does the proposed change involve a significant increase in the probability or consequences of an accident previously evaluated?

Response: No.

The proposed change revises the Steam Generator (SG) Program to modify the frequency of verification of SG tube integrity and SG tube sample selection. A steam generator tube rupture (SGTR) event is one of the design basis accidents that are analyzed as part of the plant's licensing basis. The proposed SG tube inspection frequency and sample selection criteria will continue to ensure that the SG tubes are inspected such that the probability of [an] SGTR is not increased. The consequences of [an] SGTR are bounded by the conservative assumptions in the design basis accident analysis. The proposed change will not cause the consequences of [an] SGTR to exceed those assumptions.

Therefore, it is concluded that this change does not involve a significant increase in the probability or consequences of an accident previously evaluated.

2. Does the proposed change create the possibility of a new or different kind of accident from any accident previously evaluated?

Response: No.

The proposed changes to the Steam Generator Program will not introduce any adverse changes to the plant design basis or postulated accidents resulting from potential tube degradation. The proposed change does not affect the design of the SGs or their method of operation. In addition, the proposed change does not impact any other plant system or component.

Therefore, it is concluded that this change does not create the possibility of a new or different kind of accident from any accident previously evaluated.

3. Does the proposed change involve a significant reduction in a margin of safety?

Response: No.

The SG tubes in pressurized water reactors are an integral part of the reactor coolant pressure boundary and, as such, are relied upon to maintain the primary system's pressure and inventory. As part of the reactor coolant pressure boundary, the SG tubes are unique in that they are also relied upon as a heat transfer surface between the primary and secondary systems such that residual heat can be removed from the primary system. In addition, the SG tubes also isolate the radioactive fission products in the primary coolant from the secondary system. These safety functions are maintained by ensuring integrity of the SG tubes.

Steam generator tube integrity is a function of the design, environment, and the physical condition of the tube. The proposed change does not affect tube design or operating environment. The proposed change will continue to require monitoring of the physical condition of the SG tubes such that there will not be a reduction in the margin of safety compared to the current requirements.

Therefore, it is concluded that the proposed change does not involve a significant reduction in a margin of safety.

The NRC staff has reviewed the licensee' analysis and, based on this review, it appears that the three standards of 10 CFR 50.92(c) are satisfied. Therefore, the NRC staff proposes to determine that the amendment request involves no significant hazards consideration.

Attorney for licensee: John O'Neill, Esq., Pillsbury Winthrop Shaw Pittman LLP, 2300 N Street, NW., Washington, DC 20037.

NRC Branch Chief: Michael T. Markley.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Dominion Nuclear Connecticut, Inc., Docket No. 50-336, Millstone Power Station, Unit 2 (MPS2), New London County, Connecticut

Date of amendment request: April 11, 2014.

Brief description of amendment: The amendment revised the Technical Specifications (TSs), adding topical report BAW-10240(P)(A), “Incorporation of M5™ Properties in Framatome ANP Approved Methods,” to the referenced analytical methods in TS 6.9.1.8.b, “Core Operating Limits Report,” as an acceptable method used to determine core operating limits for MPS2.

Date of issuance: May 18, 2015.

Effective date: As of the date of issuance and shall be implemented within 60 days from the date of issuance.

Amendment No.: 319. A publicly-available version is in ADAMS under Accession No. ML15093A441; documents related to this amendment are listed in the Safety Evaluation enclosed with the amendment.

Renewed Facility Operating License No. DPR-65: Amendment revised the Renewed Facility Operating License and TSs.

Date of initial notice in Federal Register: November 25, 2014 (79 FR 70212).

The Commission's related evaluation of the amendment is contained in a Safety Evaluation dated May 18, 2015.

No significant hazards consideration comments received: No.

Dominion Nuclear Connecticut, Inc., Docket No. 50-336, Millstone Power Station, Unit 2, New London County, Connecticut

Date of amendment request: March 28, 2014.

Brief description of amendment: The proposed amendment deletes the Technical Specification (TS) Index and makes several other editorial, corrective and minor changes to the TSs.

Date of issuance: May 20, 2015.

Effective date: As of the date of issuance and shall be implemented within 30 days from the date of issuance.

Amendment No.: 320. A publicly-available version is in ADAMS under Accession No. ML14093A027; documents related to this amendment are listed in the Safety Evaluation enclosed with the amendment.

Renewed Facility Operating License No. DPR-65: Amendment revised the Renewed Operating License and TSs.

Date of initial notice in Federal Register: November 25, 2014 (79 FR 70212).

The Commission's related evaluation of the amendment is contained in a Safety Evaluation dated May 20, 2015.

No significant hazards consideration comments received: No.

Dominion Nuclear Connecticut, Inc., Docket No. 50-423, Millstone Power Station, Unit 3, New London County, Connecticut

Date of amendment request: March 28, 2014.

Brief description of amendment: The amendment deleted the Technical Specification (TS) index and made other editorial, corrective, and minor changes to the TSs.

Date of issuance: May 20, 2015.

Effective date: As of the date of issuance and shall be implemented within 30 days from the date of issuance.

Amendment No.: 261. A publicly-available version is in ADAMS under Accession No. ML15098A034; documents related to this amendment are listed in the Safety Evaluation enclosed with the amendment.

Renewed Facility Operating License No. NPF-49: Amendment revised the Renewed Operating License and TSs.

Date of initial notice in Federal Register: November 25, 2014 (79 FR 70213).

The Commission's related evaluation of the amendment is contained in a Safety Evaluation dated May 20, 2015.

No significant hazards consideration comments received: No.

Duke Energy Progress, Inc., Docket No. 50-261, H. B. Robinson Steam Electric Plant Unit 2, Darlington County, South Carolina

Date of application for amendment: June 7, 2013, as supplemented by letter dated July 24, 2014.

Brief description of amendment: The amendment revised the Technical Specifications (TSs) by deleting Surveillance Requirements (SRs) 3.1.7.1, 3.1.7.2, and 3.1.7.3 of TS 3.1.7, “Rod Position Indication,” and renumbering SR 3.1.7.4 as SR 3.1.7.1.

Date of issuance: May 27, 2015.

Effective date: As of the date of issuance and shall be implemented within 120 days of issuance.

Amendment No.: 241. A publicly-available version is in ADAMS under Accession No. ML15068A386; documents related to this amendment are listed in the Safety Evaluation (SE) enclosed with the amendment.

Renewed Facility Operating License No. DPR-23: Amendment revised the Facility Operating License and TSs.

Date of initial notice in Federal Register: August 20, 2013 (78 FR 51222). The supplemental letter dated July 24, 2014, provided additional information that clarified the application, did not expand the scope of the application as originally noticed, and did not change the staff's original proposed no significant hazards consideration determination as published in the Federal Register.

The Commission's related evaluation of the amendment is contained in a SE dated May 27, 2015.

No significant hazards consideration comments received: No.

Duke Energy Progress, Inc., Docket No. 50-261, H. B. Robinson Steam Electric Plant Unit 2, Hartsville, South Carolina

Date of amendment request: June 20, 2014.

Brief description of amendment: The amendment revised Technical Specification (TS) 5.5.9 for the Steam Generator Program accident-induced leakage rate value for any design-basis accident, other than a steam generator tube rupture.

Date of issuance: May 26, 2015.

Effective date: As of the date of issuance and shall be implemented within 120 days of issuance.

Amendment No.: 240. A publicly-available version is in ADAMS under Accession No. ML15062A343; documents related to this amendment are listed in the Safety Evaluation (SE) enclosed with the amendment.

Renewed Facility Operating License No. DPR-23: Amendment revised the Facility Operating License and TSs.

Date of initial notice in Federal Register: September 16, 2014 (79 FR 55510).

The Commission's related evaluation of the amendment is contained in an SE dated May 26, 2015.

No significant hazards consideration comments received: No.

Entergy Nuclear Operations, Inc., Docket Nos. 50-247 and 50-286, Indian Point Nuclear Generating Units 2 and 3, Westchester County, New York

Date of amendment request: April 1, 2014.

Brief description of amendments: The amendments revised the technical specifications (TSs) by implementing Technical Specification Task Force Technical Change Traveler 510, Revision 2, “Revision to Steam Generator Program Inspection Frequencies and Tube Sample Selection.”

Date of issuance: May 26, 2015.

Effective date: As of the date of issuance and shall be implemented within 30 days of issuance.

Amendment Nos.: 281 and 257. A publicly-available version is in ADAMS under Accession No. ML15110A009; documents related to these amendments are listed in the safety evaluation (SE) enclosed with the amendments.

Facility Operating License Nos. DPR-26 and DPR-64: Amendments revised the facility operating license and TSs.

Date of initial notice in Federal Register: July 8, 2014 (79 FR 38588).

The Commission's related evaluation of the amendment is contained in an SE dated May 26, 2015.

No significant hazards consideration comments received: No.

Entergy Nuclear Operations, Inc., Docket No. 50-255, Palisades Nuclear Plant (PNP), Van Buren County, Michigan

Date of application for amendment: June 11, 2014.

Brief description of amendment: The amendment modified PNP technical specifications (TSs) to adopt the changes described in TS Task Force (TSTF) traveler TSTF-426, Revision 5, “Revise or Add Actions to Preclude Entry into [Limiting Condition for Operation (LCO)] 3.0.3—[Risk-Informed TSTF (RITSTF)] Initiatives 6b and 6c” (ADAMS Accession No. ML113260461).

Date of issuance: May 18, 2015.

Effective date: As of the date of issuance and shall be implemented within 90 days.

Amendment No.: 256. A publicly-available version is in ADAMS under Accession No. ML15103A059; documents related to this amendment are listed in the Safety Evaluation enclosed with the amendment.

Renewed Facility Operating License No. DPR-20: Amendment revised the Renewed Facility Operating License and Technical Specifications

Date of initial notice in Federal Register: September 2, 2014 (79 FR 52062).

The Commission's related evaluation of the amendment is contained in a Safety Evaluation dated May 18, 2015.

No significant hazards consideration comments received: No.

Exelon Generation Company, LLC (EGC), Docket No. 50-410, Nine Mile Point Nuclear Station, Unit 2, Oswego County, New York

Date of amendment request: November 17, 2014, as supplemented by letter dated March 20, 2015.

Brief description of amendment: The amendment revised the Nine Mile Point Nuclear Station, Unit 2, Technical Specification (TS) Allowable Value for the Main Steam Line Tunnel Lead Enclosure Temperature-High instrumentation from an ambient temperature dependent (variable setpoint) to ambient temperature independent (constant Allowable Value). The changes deleted Surveillance Requirement (SR) 3.3.6.1.2 and revise the Allowable Value for Function 1.g on Table 3.3.6.1-1, “Primary Containment Isolation Instrumentation.”

Date of issuance: May 26, 2015.

Effective date: As of the date of issuance and shall be implemented within 60 days of issuance.

Amendment No.: 147. A publicly-available version is in ADAMS under Accession No. ML15110A008; documents the Safety Evaluation related to this amendment enclosed with the amendment.

Renewed Facility Operating License No. NPF-69: Amendment revised the Renewed Facility Operating License and TSs.

Date of initial notice in Federal Register: March 3, 2015 (80 FR 11476). The supplemental letter dated March 20, 2015, provided additional information that clarified the application, did not expand the scope of the application as originally noticed, and did not change the staff's original proposed no significant hazards consideration determination as published in the Federal Register.

The Commission's related evaluation of the amendment is contained in a Safety Evaluation dated May 26, 2015.

No significant hazards consideration comments received: No.

FirstEnergy Nuclear Operating Company, et al., Docket No. 50-412, Beaver Valley Power Station, Unit 2, (BVPS-2) Beaver County, Pennsylvania

Date of amendment request: June 2, 2014, as supplemented by letter dated August 8, 2014.

Description of amendment request: The amendment changes the BVPS-2 technical specifications (TS). Specifically, the amendment revised TS 4.3.2, “Drainage,” to correct the minimum drain elevation for the spent fuel storage pool specified in the TS. In accordance with Title 10 of the Code of Federal Regulations, Part 50, Appendix B, Section XVI, “Corrective Action,” the amendment was required to resolve a TS discrepancy regarding an existing plant design feature.

Date of Issuance: May 20, 2015.

Effective date: As of the date of issuance and shall be implemented within 90 days of issuance.

Amendment No.: 181. A publicly available version is in ADAMS under Accession No. ML15086A251.

Facility Operating License No. NPF-73: Amendment revised the Facility Operating License and Technical Specifications.

Date of initial notice in Federal Register: September 30, 2014 (79 FR 58816).

The Commission's related evaluation of the amendment is contained in a Safety Evaluation dated May 20, 2015.

No significant hazards consideration comments received: No.

FirstEnergy Nuclear Operating Company, Docket No. 50-440, Perry Nuclear Power Plant, Unit 1, Lake County, Ohio

Date of application for amendment: December 6, 2013, as supplemented by letters dated February 27, July 22, October 8, 2014, and February 4, 2015.

Brief description of amendment: The amendment revises the Updated Safety Analyses Report (USAR) to reflect updated radiological dose calculations based upon using an alternative source term methodology for the applicable design bases events and to revise the technical specification (TS) definition of DOSE EQUIVALENT IODINE-131.

Date of issuance: March 30, 2015.

Effective date: As of the date of issuance and shall be implemented within 30 days.

Amendment No.: 166. A publicly-available version is in ADAMS under Accession No. ML15075A139; documents related to this amendment are listed in the Safety Evaluation enclosed with the amendment.

Facility Operating License No. NPF-58: This amendment revised the TSs and License.

Date of initial notice in Federal Register: April 15, 2014 (79 FR 21298). The July 22, October 8, 2014, and February 4, 2015, supplements contained clarifying information and did not change the NRC staff's initial proposed finding of no significant hazards condition.

The Commission's related evaluation of the amendment is contained in a Safety Evaluation dated March 30, 2015.

No significant hazards consideration comments received: No.

NextEra Energy Seabrook, LLC, Docket No. 50-443, Seabrook Station, Unit 1, Rockingham County, New Hampshire

Date of amendment request: January 30, 2012, as supplemented by letters dated May 10, 2012, September 20, 2012, March 27, 2013, December 20, 2013, January 29, 2014, March 13, 2014, and February 25, 2015.

Description of amendment request: The original application proposed revisions to the technical specifications (TSs) for new and spent fuel storage as a result of the new criticality analyses for the new fuel vault (NFV) and spent fuel pool (SFP). By letter dated December 20, 2013 (ADAMS Accession No. ML13360A045), NextEra requested that the SFP and NFV be separated into two separate license amendment requests. This amendment revised the TSs related to the NFV. On September 3, 2014, the U.S. Nuclear Regulatory Commission issued Amendment No. 142 that revised the TSs related to spent fuel storage as a result of new criticality analyses for the SFP.

Date of issuance: May 18, 2015.

Effective date: As of its date of issuance, and shall be implemented within 60 days.

Amendment No.: 148. A publicly-available version is in ADAMS under Accession No. ML15118A632; documents related to this amendment are listed in the Safety Evaluation enclosed with the amendment.

Facility Operating License No. NPF-86: Amendment revised the Facility Operating License and Technical Specifications.

Date of initial notice in Federal Register: August 14, 2012 (77 FR 48559). The supplemental letters dated September 20, 2012, March 27, 2013, December 20, 2013, January 29, 2014, March 13, 2014, and February 25, 2015, provided additional information that clarified the application, did not expand the scope of the application as originally noticed, and did not change the staff's original proposed no significant hazards consideration determination as published in the Federal Register.

The Commission's related evaluation of the amendment is contained in a Safety Evaluation dated May 18, 2015.

No significant hazards consideration comments received: No.

Northern States Power Company—Minnesota, Docket Nos. 50-282 and 50-306, Prairie Island Nuclear Generating Plant, Units 1 and 2, Goodhue County, Minnesota

Date of amendment request: June 9, 2014, as supplemented by letter dated December 17, 2014.

Brief description of amendment: The amendments revised Technical Specification (TS) 3.8.1, “AC [Alternating Current] Source—Operating,” to revise the emergency diesel generator steady-state voltage and frequency limits specified in Surveillance Requirement (SR) 3.8.1.2, SR 3.8.1.6, and SR 3.8.1.9.

Date of issuance: May 21, 2015.

Effective date: As of the date of issuance and shall be implemented within 90 days of issuance.

Amendment Nos.: Unit 1—214; Unit 2—202. A publicly-available version is in ADAMS under Accession No. ML15086A046; documents related to these amendments are listed in the Safety Evaluation enclosed with the amendments.

Renewed Facility Operating License Nos. DPR-42 and DPR-60: These amendments revised the Renewed Facility Operating License and the Technical Specifications.

Date of initial notice in Federal Register: August 5, 2014 (79 FR 45479). The supplement dated December 17, 2014, provided additional information that clarified the application, did not expand the scope of the application as originally noticed, and did not change the staff's original proposed no significant hazards consideration determination as published in the Federal Register.

The Commission's related evaluation of the amendments is contained in a Safety Evaluation dated May 21, 2015.

No significant hazards consideration comments received: No.

Northern States Power Company—Minnesota, Docket Nos. 50-282 and 50-306, Prairie Island Nuclear Generating Plant, Units 1 and 2, Goodhue County, Minnesota

Date of amendment requests: February 20, 2013, as supplemented by letters dated June 25, 2013; September 15, 2014; and February 26, 2015.

Brief description of amendments: The amendments revised Technical Specification (TS) 3.5.3, “ECCS [Emergency Core Cooling Systems]—Shutdown,” to remove Note 1 and change the Mode Applicability to eliminate the potential for non-conservative plant operation.

Date of issuance: May 20, 2015.

Effective date: As of the date of issuance and shall be implemented within 90 days of issuance.

Amendment Nos.: Unit 1—213; Unit 2—201. A publicly-available version is in ADAMS under Accession No. ML15062A013; documents related to these amendments are listed in the Safety Evaluation enclosed with the amendments.

Renewed Facility Operating License Nos. DPR-42 and DPR-60: These amendments revised the Renewed Facility Operating License and the Technical Specifications.

Date of initial notice in Federal Register: August 20, 2013 (78 FR 51229). The supplement dated September 15, 2014, provided additional information that clarified the application, did not expand the scope of the application as originally noticed, and did not change the staff's original proposed no significant hazards consideration determination as published in the Federal Register. The Commission issued a revised no significant hazards consideration on March 17, 2015 (80 FR 13910), to consider the aspects of the proposed Mode Applicability change in the February 26, 2015, supplemental letter. The revised notice also included the correct initial submittal date of February 20, 2013.

The Commission's related evaluation of the amendments is contained in a Safety Evaluation dated May 20, 2015.

No significant hazards consideration comments received: No.

South Carolina Electric & Gas Company, Docket Nos. 52-027 and 52-028, Virgil C. Summer Nuclear Station, Units 2 and 3, Fairfield County, South Carolina

Date of amendment request: February 27, 2014, and supplemented by letter dated August 21, 2014.

Description of amendment: The amendment revises the Updated Final Safety Analysis Report in regard to Tier 2 and Tier 2* information related to the CA03 structural module, which is the in-containment refueling water storage tank (IRWST) west wall. The changes sought to clarify the materials used in fabrication of the module, as well as the design details related to the horizontal stiffeners used to support the IRWST, and module legs used to anchor the module in place.

Date of issuance: April 17, 2015.

Effective date: As of the date of issuance and shall be implemented within 90 days of issuance.

Amendment No.: 25. A publicly-available version is in ADAMS under Accession No. ML15029A419; documents related to this amendment are listed in the Safety Evaluation enclosed with the amendment.

Facility Combined Licenses No. NPF-93 and NPF-94: Amendment revised the Facility Combined Licenses.

Date of initial notice in Federal Register: April 29, 2014 (79 FR 24024). The supplemental letter dated August 21, 2014, provided additional information that clarified the application, did not expand the scope of the application as originally noticed, and did not change the staff's original proposed no significant hazards consideration determination as published in the Federal Register.

The Commission's related evaluation of the amendment is contained in the Safety Evaluation dated April 17, 2015.

No significant hazards consideration comments received: No.

Virginia Electric and Power Company, Docket Nos. 50-338 and 50-339, North Anna Power Station, Units 1 and 2, Louisa County, Virginia

Date of amendment request: February 4, 2015.

Brief description of amendment: The license amendments approve changes to the Technical Specification (TS) TS 3.1.7, “Rod Position Indication,” to provide an additional monitoring option for an inoperable control rod position indicator. Specifically, the proposed changes would allow monitoring of control rod drive mechanism stationary gripper coil voltage every eight hours as an alternative to using the movable in core detectors every eight hours to verify control rod position.

Date of issuance: May 14, 2015.

Effective date: As of the date of issuance and shall be implemented within 30 days from the date of issuance.

Amendment Nos.: 273 and 255. A publicly-available version is in ADAMS under Accession No. ML15083A436. Documents related to the amendments are listed in the Safety Evaluation enclosed with the amendments.

Renewed Facility Operating License Nos. NPF-4 and NPF-7: Amendments changed the licenses and Technical Specification.

Date of initial notice in Federal Register: March 3, 2015 (80 FR 11488).

The Commission's related evaluation of the amendments is contained in a Safety Evaluation dated May 14, 2015.

No significant hazards consideration comments received: No.

ZionSolutions, LLC, Docket Nos. 50-295 and 50-304, Zion Nuclear Power Station, Units 1 and 2, Lake County, Illinois

Date of application for amendment: May 27, 2014, as supplemented by letter dated November 6, 2014.

Brief description of amendment: This amendment revises the Zion Nuclear Power Station Licenses to approve the revised Emergency Plan.

Date of issuance: May 14, 2015.

Effective date: As of the date of issuance and shall be implemented within 60 days.

Amendment Nos.: 189 and 176.

Facility Operating License Nos. NPF-39 and NPF-48: These amendments revise the Licenses.

Date of initial notice in Federal Register: July 22, 2014, (79 FR 42553).

The Commission's related evaluation of the amendment is contained in a Safety Evaluation dated May 14, 2015.

No significant hazards consideration comments received: No.

Dated at Rockville, Maryland, this 1st day of June 2015.
For the Nuclear Regulatory Commission.
A. Louise Lund,
Acting Director, Division of Operating Reactor Licensing, Office of Nuclear Reactor Regulation.

[FR Doc. 2015-13815 Filed 6-8-15; 8:45 am]

BILLING CODE 7590-01-P